DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Meredyth M. Forbes, Albert Einstein College of Medicine: Based on an assessment conducted by the Albert Einstein College of Medicine (AECM), an admission from the Respondent, and additional analysis conducted by ORI in its oversight review, ORI found that Ms. Meredyth M. Forbes, former Graduate Student, AECM, engaged in research misconduct in research supported by National Institute of General Medical Sciences (NIGMS), National Institutes of Health (NIH), grants R01 GM089979, T32 GM007491, R01 GM55101, and R01 GM88202 and National Institute of Child Health and Human Development (NICHD), NIH, grant T32 HD007502.

ORI found that Respondent engaged in research misconduct by intentionally falsifying and/or fabricating data reported in the following three (3) published papers and four (4) meeting presentations:

• Development. In press, published online, Dec 23, 2015; doi:10.1242/dev.129023 (hereafter referred to as the “December 2015 Development paper”)

• Cell Reports 12:49-57, 2015 (hereafter referred to as the “Cell Reports paper”)

• Development 142(15):2704-18, 2015 Aug 1 (hereafter referred to as the “August 2015 Development paper”)

• “Maternal dazap2 regulates germ granules via counteracting Dynein in zebrafish primordial germ cells.” Laboratory Presentation, January 28, 2015 (hereafter referred to as the “Lab Presentation 2015”)

• “Maternal dazap2 regulates germ granule formation in zebrafish primordial germ cells.” Presented at the Germ Cells, Cold Spring Harbor, NY, October 2014, NYC-Wide Stem Cell Event, “Stem Cells in the City,” NY, November 2014, Mid-Atlantic Regional Zebrafish Meeting, PA, November 2014, and New York Metropolitan Zebrafish Meeting, Cornell, NY, January 2015 (hereafter referred to as “Poster 1, 2014-2015”)

• “Cytoskeleton, microtubules, centrosomes, germline cyst, Bucky ball, oocytes.” Poster presented at the Mid-Atlantic Regional Zebrafish Meeting, Bronx, NY, July 2015 (hereafter referred to as “MARZ 2015”)

• “Bucky ball associates with the centrosome and promotes microtubule cytoskeleton rearrangements to establish oocyte polarity in zebrafish.” Poster presented at the American Society for Cell Biology (ASCB) Meeting, San Diego, CA, December 2015 (hereafter referred to as “ACSB 2015”)

ORI found that Respondent intentionally falsified and/or fabricated data for germ-cell development in zebrafish Dazap2 maternal-effect mutants (MDazap2) in one (1) paper and two (2) presentations when the mutants were not produced nor the data derived from them.

Specifically, Respondent:

• falsified thirty-eight (38) fluorescent image panels by drawing staining in PhotoShop and falsely labeling them in Figures 1F, 1G, 2A, 2C, 2E, 2F, 2G, 3A, 3D, 4A, and S2A in the Cell Reports paper and included some of the same images in seven (7) figures in Lab Presentation 2015 and in six (6) figures in Poster 1 2014-2015

• fabricated numbers for data presented in ten (10) graphs in Figures 1L, 2B, 2D, 2H, 3B, 4B, 4C, S2B, S2C, and S3B in the Cell Reports paper and included some of the same graphs in seven (7) figures in Lab Presentation 2015 and in six (6) figures in Poster 1 2014-2015

ORI found that Respondent intentionally fabricated and/or falsified data for zebrafish embryogenesis and oocyte polarity in two (2) papers and two (2) presentations when the data were not obtained from actual experiments.

Specifically, Respondent:

• falsified twenty-four (24) fluorescent image panels by drawing staining in Photoshop and falsely labeling them in Figures 5B, 5C, 5D, 5E, 7A, 7B, 7D, 8A, 8B, 9A, and 9B in the August 2015 Development paper and included some of the same images in four (4) figures in the ASCB 2015 poster and in two (2) figures in the MARZ 2015 poster

• fabricated numbers for data presented in eight (8) graphs and one (1) illustration in Figures 5F, 7C, 7E, 8C, 8F-I, 9C, and 9D in the December 2015 Development paper and Figure 2F in the August 2015 Development paper and included some of the same graphs in four (4) figures in the ASCB 2015 poster and in two (2) figures in the MARZ 2015 poster

Ms. Forbes has entered into a Voluntary Exclusion Agreement (Agreement) and has voluntarily agreed for a period of three (3) years, beginning on May 6, 2016:

(1) to exclude herself from any contracting or subcontracting with any agency of the United States Government and from eligibility or involvement in nonprocurement programs of the United States Government referred to as “covered transactions” pursuant to HHS' Implementation (2 CFR part 376 et seq.) of OMB Guidelines to Agencies on Governmentwide Debarment and Suspension, 2 CFR part 180 (collectively the “Debarment Regulations”);

(2) that she will neither apply for nor permit her name to be used on any application, proposal, or other request for funds to the United States Government or any of its agencies, as defined in the Debarment Regulations; Respondent will further ensure that during the period of the voluntary exclusion, she will neither receive nor be supported by funds of the United States Government and its agencies made available through grants, subgrants, cooperative agreements, contracts, or subcontracts, as discussed in the Debarment Regulations; and

(3) to exclude herself from serving in any advisory capacity to the U.S. Public Health Service (PHS) including, but not limited to, service on any PHS advisory committee, board, and/or peer review committee, or as a consultant.

FOR FURTHER INFORMATION CONTACT: Director, Office of Research Integrity, 1101 Wootton Parkway, Suite 750, Rockville, MD 20852, (240) 453-8200.

Kathryn M. Partin,
Director, Office of Research Integrity.

[FR Doc. 2016-13541 Filed 6-7-16; 8:45 am]

BILLING CODE 4150-31-P